ENVIRONMENTAL PROTECTION AGENCY

[FRL-7833-2]

Meeting of the National Drinking Water Advisory Council Notice of Public Meeting

AGENCY: Environmental Protection Agency.

ACTION: Notice.

SUMMARY: Under Section 10(a)(2) of Public Law 92-423, “The Federal Advisory Committee Act,” notice is hereby given of a meeting of the National Drinking Water Advisory Council (NDWAC), established under the Safe Drinking Water Act, as amended (42 U.S.C. 300f et seq.). The primary purpose of this meeting is for the Council to meet with representatives of the Environmental Protection Agency (EPA) and the Centers for Disease Control and Prevention (CDC) to discuss public health issues related to the nation's drinking water. Of particular interest are the review and revision of existing drinking water program indicators and measures and the development of new indicators/measures that are clearly focused on public health protection. Updates on other EPA and CDC drinking water program activities will be presented, if sufficient time is available.

DATES: The Council meeting will be held on December 1, 2004, from 8:30 a.m. until 5:30 p.m., and December 2, 2004, from 8:30 a.m. until noon, eastern time.

ADDRESSES: The meeting will be held at the Atlanta Marriott Marquis, located at 265 Peachtree Center Avenue, Atlanta, Georgia.

FOR FURTHER INFORMATION CONTACT: Members of the public who would like to attend the meeting, present an oral statement, or submit a written statement, should contact Clare Donaher, by phone at (202) 564-3787, by e-mail at donaher.clare@epa.gov, or by regular mail at the U.S. Environmental Protection Agency, Office of Ground Water and Drinking Water (MC 4601M), 1200 Pennsylvania Avenue, NW., Washington, DC 20460.

SUPPLEMENTARY INFORMATION: The meeting is open to the public. The Council encourages the public's input and will allocate one hour (4:30-5:30 p.m.) during the first day of the meeting for this purpose. Oral statements will be limited to five minutes. It is preferred that only one person present the statement on behalf of a group or organization. To ensure adequate time for public involvement, individuals or organizations interested in presenting an oral statement should notify Clare Donaher by telephone at (202) 564-3787 no later than November 15, 2004. Any person who wishes to file a written statement can do so before or after a Council meeting. Written statements received by November 15, 2004, will be distributed to all members of the Council before any final discussion or vote is completed. Any statements received November 15, 2004, or after the meeting will become part of the permanent meeting file and will be forwarded to the Council members for their information. Any person needing special accommodations at this meeting, including wheelchair access, please contact Clare Donaher (see FOR FURTHER INFORMATION CONTACT section). Arrangements need to be made at least five (5) business days before the meeting so that appropriate special accommodations can be made.

Dated: October 26, 2004.
Cynthia C. Dougherty,
Director, Office of Ground Water and Drinking Water.

[FR Doc. 04-24412 Filed 11-1-04; 8:45 am]

BILLING CODE 6560-50-P